DEPARTMENT OF AGRICULTURE

Departmental Management; Performance Review Board Membership; Notice Appointments

AGENCY: Office of Human Resource Management, Departmental Management, USDA.

ACTION: Notice of Performance Review Board appointments.

SUMMARY: This notice announces the members of the Senior Executive Service (SES) and Senior Level (SL) and Scientific or Professional (ST) Performance Review Board. Agriculture has one PRB that is represented by each Mission Area. The PRB is comprised of a Chairperson and a mix of career and noncareer senior executives that meets annually to review and evaluate performance appraisal documents and provides a written recommendation to the Secretary for final approval of each executive's performance rating, performance-based pay adjustment, and performance award.

DATES: The board membership is applicable beginning on October 24, 2017.

FOR FURTHER INFORMATION CONTACT: Marsha A. Wiggins, Acting Director, Office of Human Resources Management, telephone: (202) 720-3585, or Terri Meighan, Acting Director, Executive Resources Management Division, telephone: (202) 720-2655.

SUPPLEMENTARY INFORMATION: In accordance with 5 U.S.C. 4314(c)(4), the USDA PRB members are named below:

Office of the Secretary

Adcock, Rebeckah F. and Lyons, Margaret P.

Assistant Secretary for Administration

Salguero, Francisco; William, Duane

Assistant Secretary for Civil Rights

Lake Scott, Winona M.

Food, Nutrition and Consumer Services

Lipps, Brandon R.

Farm Production and Conservation

Christensen, Thomas W.

Food Safety

Rottenberg, Carmen M.

Marketing and Regulatory Programs

Morris, Erin and Shea, A. Kevin

Natural Resources and Environment

Jiron, Daniel J.; Millar, Constance I.; and Velasco, Robert

Office of Budget and Program Analysis

Bice, Donald

Office of the Chief Economist

Hohenstein, William G.

Office of the Chief Financial Officer

Moaney, Lynn M.

Office of the General Counsel

Leland, Arlean and Ricci, Carrie F.

Rural Development

McLean, Christopher and Primrose, Edna

Research Education and Economics

Bretting, Peter K.; Hamer Jr., Hubert; Jacobs-Young, Chavonda J.; Liu, Simon Y.; and Mattoo, Autar K.

Trade and Foreign Agricultural Affairs

Hafemeister, Jason T.

Dated: November 17, 2017.
Marsha A. Wiggins,
Acting Chief Human Capital Officer.

[FR Doc. 2017-25525 Filed 11-24-17; 8:45 am]

BILLING CODE P